FEDERAL RETIREMENT THRIFT INVESTMENT BOARD

Sunshine Act Notice

Time and Date: 10 a.m. (EST), December 15, 2003.

PLACE: 4th Floor, Conference Room, 1250 H Street, NW., Washington, DC.

Status: Open.

Matters to be Considered: 1. Approval of the minutes of the November 17, 2003, Board member meeting.

2. Thrift Savings Plan activity report by the Executive Director.

FOR FURTHER INFORMATION CONTACT: Thomas J. Trabucco, Director, Office of External Affairs, (202) 942-1640.

Dated: December 3, 2003.
Elizabeth S. Woodruff,
Secretary to the Board, Federal Retirement Thrift Investment Board.

[FR Doc. 03-30406 Filed 12-3-03; 3:19 pm]

BILLING CODE 6760-01-P